DEPARTMENT OF TRANSPORTATION

Federal Aviation Administration

14 CFR Part 39

[Docket No. 99-SW-65-AD]

RIN 2120-AA64

Airworthiness Directives; Eurocopter Deutschland GMBH Model BO-105CB-5 and BO-105CBS-5 Helicopters

AGENCY: Federal Aviation Administration, DOT.

ACTION: Supplemental notice of proposed rulemaking; reopening of comment period.

SUMMARY: This document revises an earlier proposed airworthiness directive (AD) for Eurocopter Deutschland GMBH (ECD) Model BO-105CB-5 and BO-105CBS-5 helicopters that would have superseded an existing AD. The existing AD requires, before further flight, creating a component log card or equivalent record and determining the calendar age and number of flights on each tension-torsion (TT) strap. The proposed AD would have required establishing a life limit for certain main rotor TT straps. That proposal was prompted by a need to establish a life limit for certain TT straps because of an accident in which a main rotor blade (blade) separated from an ECD Model MBB-BK 117 helicopter due to fatigue failure of a TT strap. The same part-numbered TT strap is used on the ECD Model BO-105 helicopters. This new action revises the proposed rule by requiring that you establish a life limit for certain main rotor TT straps before further flight instead of by January 1, 2001, as indicated in the previous proposal. This new action also removes some of the requirements that were previously proposed. The actions specified by this new proposed AD are intended to prevent fatigue failure of a TT strap, loss of a blade, and subsequent loss of control of the helicopter.

DATES: Comments must be received on or before November 20, 2000.

ADDRESSES: Submit comments in triplicate to the Federal Aviation Administration (FAA), Office of the Regional Counsel, Southwest Region, Attention: Rules Docket No. 99-SW-65-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Charles Harrison, Aviation Safety Engineer, FAA, Rotorcraft Directorate, Rotorcraft Standards Staff, Fort Worth, Texas 76193-0110, telephone (817) 222-5128, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this notice must submit a self-addressed, stamped postcard on which the following statement is made: “Comments to Docket No. 99-SW-65-AD.” The postcard will be date stamped and returned to the commenter.

Availability of SNPRMs

Any person may obtain a copy of this Supplemental Notice of Proposed Rulemaking (SNPRM) by submitting a request to the FAA, Office of the Regional Counsel, Southwest Region, Attention: Rules Docket No. 99-SW-65-AD, 2601 Meacham Blvd., Room 663, Fort Worth, Texas 76137.

Discussion

A proposal to amend part 39 of the Federal Aviation Regulations (14 CFR part 39) to add an AD for ECD Model BO-105CB-5 and BO-105CBS-5 helicopters was published as an NPRM in the Federal Register on March 13, 2000 (65 FR 13251). That NPRM proposed to supersede AD 99-24-05, Amendment 39-11429 (64 FR 62973, November 18, 1999), which requires, before further flight, creating a component log card and determining the calendar age and number of flights on each TT strap and inspecting and removing, as necessary, certain unairworthy TT straps. The NPRM, in addition to retaining the requirements of AD 99-24-05, would have required establishing a life limit, effective January 1, 2001, for the TT straps of 120 months or 25,000 flights, whichever occurs first.

Since the issuance of that NPRM, the FAA has reevaluated the proposed requirement and determined that establishing a life limit on the TT straps should be accomplished before January 1, 2001, as earlier indicated. The FAA has also determined that the graduated inspection criteria and the accompanying TT strap life limits specified in the current AD are no longer necessary after the currently specified life limit is established.

Since this change expands the scope of the originally proposed rule, the FAA has determined that it is necessary to reopen the comment period to provide additional opportunity for public comment.

The FAA estimates that 200 helicopters of U.S. registry would be affected by this proposed AD, that it would take approximately 16 work hours per helicopter to accomplish the proposed actions, and that the average labor rate is $60 per work hour. Required parts would cost approximately $10,400 per helicopter. Based on these figures, the total cost impact of the proposed AD on U.S. operators is estimated to be $2,272,200.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the FAA, Office of the Regional Counsel, Southwest Region, 2601 Meacham Blvd., Room 663, Fort Worth, Texas.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter Deutschland GMBH: Docket No. 99-SW-65-AD. Supersedes AD 99-24-05, Amendment 39-11429, Docket No. 99-SW-58-AD.

Applicability: Model BO-105 CB-5, and BO-105CBS-5 helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required as indicated, unless accomplished previously.

To prevent fatigue failure of a tension-torsion (TT) strap, loss of a main rotor blade (blade), and subsequent loss of control of the helicopter, accomplish the following:

(a) Before further flight:

(1) Remove TT straps, part number (P/N) 2604067 (Bendix) or J17322-1 (Lord), from service or re-identify them as P/N 117-14110 or 117-14111, respectively, in accordance with the Accomplishment Instructions, paragraph 2.B.1.2., Eurocopter Deutschland GMBH Alert Service Bulletin BO 105 No. ASB-BO 105-10-113, Revision 2, dated November 16, 1999 (ASB). TT straps, P/N 2604067 (Bendix) or J17322-1 (Lord), are no longer eligible for installation.

(2) Create a component log card or equivalent record for each TT strap.

(3) Review the history of the helicopter and each TT strap. Determine the age since initial installation on any helicopter (age) and the number of flights on each TT strap. Enter both the age and the number of flights for each TT strap on the component log card or equivalent record. When the number of flights is unknown, multiply the number of hours time-in-service (TIS) by 5 to determine the number of flights.

(4) Remove any TT strap from service if the total hours TIS or number of flights and age cannot be determined.

(b) Before further flight, remove any TT strap, P/N 117-14110 or 117-14111, that has been in service 120 months since initial installation on any helicopter or accumulated 25,000 flights (a flight is a takeoff and a landing). Replace the TT strap with an airworthy TT strap.

(c) This AD revises the Airworthiness Limitations Section of the maintenance manual by establishing a life limit for the TT strap, P/N 117-14110 and 117-14111, of 120 months or 25,000 flights, whichever occurs first.

(d) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(e) Special flight permits may be issued in accordance with sections 21.197 and 21.199 of the Federal Aviation Regulations (14 CFR 21.197 and 21.199) to operate the helicopter to a location where the requirements of this AD can be accomplished.

Note 3: The subject of this AD is addressed in the Luftfahrt Bundesamt (Federal Republic of Germany) AD 1999-289/2, dated September 1, 1999.

Issued in Fort Worth, Texas, on September 13, 2000.
Eric Bries,
Acting Manager, Rotorcraft Directorate, Aircraft Certification Service.

[FR Doc. 00-24115 Filed 9-19-00; 8:45 am]

BILLING CODE 4910-13-U